NATIONAL SCIENCE FOUNDATION

National Science Board; Sunshine Act Meetings

The National Science Board, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

Agency Holding Meeting: National Science Foundation; National Science Board.

Date and Time: Wednesday, December 5, 2007, at 8:30 a.m.; and Thursday, December 6, 2007 at 8:30 a.m.

Place: National Science Foundation, 4201 Wilson Blvd., Room 1235, Arlington, VA 22230. All visitors must report to the NSF visitor desk at the 9th and N. Stuart Streets entrance to receive a visitor's badge.

Status: Some portions open, some portions closed

Open Sessions

December 5, 2007

8:30 a.m.-9 a.m.

9 a.m.-9:30 a.m.

9:30 a.m.-11 a.m.

11:30 a.m.-noon

1:30 p.m.-3:30 p.m.

5 p.m.-5:15 p.m.

December 6, 2007

8:30 a.m.-9 a.m.

9 a.m.-10 a.m.

10 a.m.-10:45 a.m.

11 a.m.-noon

1:30 p.m.-2:30 p.m.

Closed Sessions

December 5, 2007

11 a.m.-11:30 a.m.

3:30 p.m.-5 p.m.

December 6, 2007

10:45 a.m.-11 a.m.

1 p.m.-1:05 p.m.

1:05 p.m.-1:30 p.m.

Agency Contact: Dr. Robert E. Webber, rwebber@nsf.gov, (703) 292-7000, http://www.nsf.gov/nsb/.

Matters To Be Discussed:

Wednesday, December 5, 2007

CPP Subcommittee on Polar Issues

Open Session: 8:30 a.m.-9 a.m.

• Approval of October Minutes.

• SOPI Chairman's Remarks.

• OPP Director's Report.

• Reports from Antarctica.

CPP Task Force on Sustainable Energy

Open Session: 9 a.m.-9:30 a.m.

• Task Force Co-Chairmen's Remarks.

• Discussion of the Sustainable Energy Background Paper.

• Discussion of the First Task Force Workshop.

Audit and Oversight Committee

Open Session: 9:30 a.m.-11a.m.

• Approval of Minutes of the October 2, 2007 Meeting.

• Committee Chairman's Opening Remarks.

• Chief Financial Officer's Update.

• Annual Financial Report.

• Report by NSF Advisory Committee on GPRA Performance Assessment.

• NSF Human Capital Management Update.

• Audit of NSF Practices to Oversee and Manage Its Research Center Programs.

• Committee Chairman's Closing Remarks.

Closed Session: 11 a.m.-11:30 a.m.

• Pending Investigations.

CPP Task Force on International Science

Open Session: 11:30 a.m.-12 p.m.

• Approval of Minutes for October 2007 Meeting.

• Task Force Chairman's Remarks.

• Review of Public Comments.

• Discussion of the Draft Task Force Report on International Science and Engineering Partnerships.

Committee on Programs and Plans (CPP)

Open Session: 1:30 p.m.-3:30 p.m.

• Approval of Minutes.

• Committee Chairman's Remarks.

• Status Reports:

○ Task Force on Transformative Research.

○ Task Force on International Science.

○ Subcommittee on Polar Issues.

○ Task Force on Sustainable Energy.

• Discussion Item: Board Policy on Recompetition of NSF Awards.

• Discussion Item: Facilities Operations and Management.

• MREFC & Facilities Update.

• NSF Background Information Relevant to NSB Reporting Actions:

○ NSF Support for Interdisciplinary Research.

○ NSF Pilot Program of Grants for New Investigators.

• NSB Information Item: National Radio Astronomy Observatory (NRAO).

• NSB Information Item: National Ecological Observatory Network (NEON).

• NSB Information Item: Global Environment for Network Innovations (GENI).

Closed Session: 3:30 p.m.-5 p.m.

• NSB Action Item: Atacama Large Millimeter Array (ALMA).

• NSB Action Item: Plant Science Cyber Infrastructure Collaborative (PSCIC).

• NSB Action Item: National Ecological Observatory Network (NEON).

Executive Committee

Open Session: 5 p.m.-5:15 p.m.

• Approval of Minutes for August 2007.

• Executive Committee Chairman's Remarks.

• Updates or New Business from Committee Members.

Thursday, December 6, 2007

CSB Task Force on Cost Sharing

Open Session: 8:30 a.m.-9 a.m.

• Task Force Chairman's Remarks.

• Report on Cost Sharing Roundtable Discussions at the 2007 National NSF EPSCoR Meeting and the NSF ERC 2007 Annual Meeting.

• Discussion of Cost Sharing Roundtable Discussion at the NSF I/UCRC 2008 Annual Meeting.

• Discussion of the December 7, 2007 Cost Sharing Roundtable Discussion at NSF.

• Discussion of the Cost Sharing Survey.

• Discussion of Task Force Timetable and Next Steps after February Delivery of Board. Report on Cost Sharing to Congress.

EHR Subcommittee on Science and Engineering Indicators

Open Session: 9 a.m.-10 a.m.

• Approval of October Minutes.

• Subcommittee Chairman's Remarks.

• Progress Report on S&E Indicators 2008.

• Update on S&E Indicators “Digest.”

• Science and Engineering Indicators 2008 Companion Piece.

• Science and Engineering Indicators 2008 Rollout.

• Science and Engineering Indicators 2010.

• Presentation on Electronic “Digest.”

• Subcommittee Chairman's Summary.

Committee on Strategy and Budget (CSB)

Open Session: 10 a.m.-10:45 a.m.

• Approval of CSB Minutes, October 3, 2007.

• Committee Chairman's Remarks.

• Recommendations on NSF Average Award Size, Duration, and Proposal Success Rate.

• Discussion of the Number of Proposal Submissions by a Single Institution or Principal Investigator.

• Status Report: CSB Task Force on Cost Sharing.

Closed Session: 10:45 a.m.-11a.m.

• Status of NSF FY 2009 Budget Request.

Committee on Education and Human Resources (EHR)

Open Session: 11a.m.-12 p.m.

• Approval of October 2007 Minutes.

• Committee Chairman's Remarks.

• Update on NSF Implementation of Board STEM Education Guidance.

• Status of Subcommittee on Science and Engineering Indicators.

• Discussion: Preparing the Next Generation of STEM Innovators.

• Board Executive Officer's Report.

Plenary Executive Closed

Closed Session: 1 p.m.-1:05 p.m.

• Approval of October 2007 Minutes.

Plenary Closed

Closed Session: 1:05 p.m.-1:30 p.m.

• Approval of October 2007 Minutes.

• Awards and Agreements.

• Closed Committee Reports.

Plenary Open

Open Session: 1:30 p.m.-2:30 p.m.

• Approval of October 2007 Minutes.

• Resolution to Close February 2008 Meeting.

• Chairman's Report.

• Director's Report.

• Open Committee Reports.

Michael P. Crosby,
Executive Officer and Board Office Director.

[FR Doc. E7-23174 Filed 11-28-07; 8:45 am]

BILLING CODE 7555-01-P